DEPARTMENT OF AGRICULTURE

Forest Service

Monument Fire Recovery Project-Whitman Unit, Wallowa-Whitman National Forest, Baker County, OR

AGENCY: Forest Service, USDA.

ACTION: Notice of intent to prepare an environmental impact statement.

SUMMARY: The USDA, Forest Service, will prepare an environmental impact statement (EIS) on a proposal to assist the recovery of the area burned in 2002 by the Monument Fire. The EIS will include proposals that salvage fire-killed and dying trees, implement reforestation, and projects to recover damaged riparian and aquatic resources. The 3,300-acre project area is located on the Whitman Unit-Unity District. The project is approximately 7 air miles southeast of Unity, Oregon, and within the West Fork of Camp Creek sub-watershed. Implementation of management actions is planned for fiscal year 2004. The agency gives notice of the full environmental analysis and decision making process that will occur on the proposal so that interested and affected people may become aware of how they can participate in the process and contribute to the final decision.

DATES: Comments concerning the scope of the analysis must be received in writing by May 30, 2003.

ADDRESSES: Send written comments to Dick Haines, District Ranger,Whitman Unit-Unity Office, Wallowa-Whitman National Forest, P.O. Box 39, Unity, Oregon 97884.

FOR FURTHER INFORMATION CONTACT: Direct questions about the proposed action and EIS to Roger LeMaster, Interdisciplinary Team Leader, Wallowa-Whitman National Forest, Whitman Unit-Unity Office, P.O. Box 39, Unity, Oregon 97884, telephone (541) 446-3351.

SUPPLEMENTARY INFORMATION: In July and August of 2002, the Monument Fire burned approximately 24,300 acres; approximately 4,100 acres occurred on the Wallowa-Whitman National forest, including 628 acres of private land. The remainder of the fire (approximately 20,200 acres) occurred on the Malheur National Forest. The Monument Fire Recovery Project-Whitman Unit (3,300 acres) includes those portions of the Monument Fire that occurred within the West Camp Creek sub-watershed on the Wallowa-Whitment National forest.

Purpose and Need for Action. The identified purpose and need for these actions here and now are to: Recover potential value of fire-killed and dying trees for wood products and to support the local economy; reforest non-stocked areas that were burned for wildlife habitat and riparian habitat recovery; allow recovery of herbaceous, native vegetation for wildlife and domestic use; and maintain or improve water quality for sediment reduction into stream channels in compliance with INFISH (Regional Forester Amendment #4 to the Wallowa-Whitman National Forest Land and resource Management Plan) guidelines.

Proposed Action. The proposed action is to salvage fire-killed and dying trees by helicopter on approximately 359 acres, by skyline logging systems on approximately 381 acres, and by tractor on 39 acres. The total salvage volume would be approximately 9 million board feet. Salvage would be limited to upland areas, outside of Riparian Habitat Conservation Areas. Approximately ¼-mile of temporary roads would be required for access to units. Approximately 5.4 miles of closed roads would be opened for salvage (reclosed after salvage); approximately 10.6 miles of currently open roads would be closed; and approximately 32 miles of road maintenance would be required for haul routes. Reforest approximately 1205 acres in salvaged units, old regeneration units, and other burn areas; reforest (with riparian vegetation and conifers) 292 acres of high and moderate severity burned streamside and riparian wetlands, along the North and South Forks of West Camp Creek and its tributaries; fall snags to increase plantations survival and increase down, woody material; treat noxious weed sites disturbed during fire suppression efforts and new existing noxious weed sites; and rest the burn area to allow recovery of herbaceous, native vegetation for wildlife and domestic use.

Preliminary Issues. Preliminary issues identified include: timely recovery of fire-killed and dying trees; effect of salvage on soils; retention of snags; effects of road closures on public access; effects of salvage activities on sediment to stream channels; effect of salvage on wildlife populations and reduced habitat; noxious weeds infestation and expansion; economic viability; and effects on recreation/visuals.

Possible Alternatives. A full reasonable range of alternatives will be considered, including a “no-action” alternative in which none of the activities proposed above would be implemented. Based on the preliminary issues identified through scoping, the action alternatives could differ in: The level of salvage; the type of logging systems used for salvage; the amount and location of roads needed to access salvage units; and the level of road closures proposed.

Scoping Process. The scoping process will include: Identifying potential issues; identifying major issues to be analyzed in depth; eliminating non-significant issues or those previously covered by a relevant environmental analysis; considering additional alternatives based on goals/objectives which will be derived from issues recognized during scoping activities; and identifying potential environmental effects of this proposed action and alternatives (i.e., direct, indirect, and cumulative effects and connected actions). Public participation will be sought at several points during the analysis process. The public will be kept informed of the EIS process through the quarterly publication of the “Wallowa-Whitman National Forest's Schedule of Purposed Actions” and letters to agencies, organizations, and individuals who have previously indicated their interest in such activities.

Public comment. Public comments about this proposal are requested in order to assist in scoping issues properly, determining how to best manage the resources, and analyzing environmental effects fully. Comments received to this notice, including names and addresses of those who comment, will be available for public inspection. Comments submitted anonymously will be accepted and considered; however, those who submit anonymous comments will not have standing to appeal the subsequent decision under 36 CFR Part 215. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality. Where the request is denied, the agency will return the submission and notify the requester that the comments may be resubmitted, with or without name and address, within a specified number of days.

The draft EIS is expected to be filed with the Environmental Protection Agency (EPA), and made available for public review by July 2003. The commend period on the draft EIS will be 45 days from the date the EPA publishes the notice of availability in the Federal Register. The final EIS is scheduled to be available October 2003.

The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period, so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

The Forest Service is the lead agency. The responsible official is the Forest Supervisor, for the Wallowa-Whitman National Forest. The responsible official will decide which, if any, of the proposed projects will be implemented and will document the Monument Fire Recovery Project-Whitman Unit decision and rationale for the decision, in the Record of Decision. That decision will be subject to Forest Service Appeal Regulations (36 CFR part 215).

Dated: April 21, 2003.
John C. Schuyler,
Deputy Forest Supervisor.

[FR Doc. 03-10501 Filed 4-28-03; 8:45 am]

BILLING CODE 3410-11-P